DEPARTMENT OF THE INTERIOR

Fish and Wildlife Service

[FW-R7-MM-2017-N002]; [FXES111607MRG00-178-FF07CAMM00]

Proposed Information Collection; Incidental Take of Marine Mammals During Specified Oil and Gas Industry Activities

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on March 31, 2017. We may not conduct or sponsor and a person is not required to respond to a collection of information unless it displays a currently valid OMB control number.

DATES: To ensure that we are able to consider your comments on this IC, we must receive them by March 13, 2017.

ADDRESSES: Send your comments on the IC to the Information Collection Clearance Officer, U.S. Fish and Wildlife Service, MS BPHC, 5275 Leesburg Pike, Falls Church, VA 22041-3803 (mail); or tina_campbell@fws.gov (email). Please include “1018-0070” in the subject line of your comments.

FOR FURTHER INFORMATION CONTACT: To request additional information about this IC, contact Tina Campbell at tina_campbell@fws.gov (email) or 703-358-2676 (telephone).

SUPPLEMENTARY INFORMATION:

I. Abstract

This information collection includes requirements associated with specified oil and gas industry activities and their incidental taking of polar bears (Ursus maritimus) and Pacific walruses (Odobenus rosmarus divergens) in the Beaufort and Chukchi Seas. The Marine Mammal Protection Act (MMPA) of 1972, as amended (16 U.S.C. 1361 et seq.), imposed, with certain exceptions, a moratorium on the taking of marine mammals. Section 101(a)(5)(A) of the MMPA directs the Secretary of the Interior to allow, upon request by citizens of the United States, the taking of small numbers of marine mammals incidental to specified activities (other than commercial fishing) if the Secretary makes certain findings and prescribes specific regulations that, among other things, establish permissible methods of taking.

Applicants seeking to conduct activities must request a Letter of Authorization (LOA) for the specific activity and submit monitoring reports of polar bear and Pacific walrus observations and a final summary report of the monitoring and the impacts of the activity upon polar bears and Pacific walruses to the Secretary. This is a nonform collection. Regulations at 50 CFR 18.27 outline the procedures and requirements for submitting a request. Specific regulations governing authorized activities in the Beaufort Sea are in 50 CFR 18, subpart J. Regulations governing authorized activities in the Chukchi Sea are in 50 CFR 18, subpart I. These regulations provide the applicant with a detailed description of information that we need to evaluate the proposed activity and determine whether or not to issue specific regulations and, subsequently, LOAs. We use the information to verify the findings required to issue incidental take regulations, to decide if we should issue an LOA, and, if issued, what conditions should be in the LOA. In addition, we analyze the information to determine impacts to polar bears and Pacific walruses and the availability of those marine mammals for subsistence purposes of Alaska Natives.

Holders of an LOA seeking to carry out onshore activities in known or suspected polar bear denning habitat during the denning season, must make efforts to locate occupied polar bear dens within and near proposed areas of operation. They may use any appropriate tool, such as, forward-looking infrared (FLIR) imagery and/or polar bear scent-trained dogs in concert with denning habitat maps along the Alaskan coast. In accordance with 50 CFR 18.118(a)(6)(ii)(A) and 18.128(a)(2)(ii), LOA holders must report all observed or suspected polar bear dens to us prior to the initiation of activities. We use this information to determine the appropriate terms and conditions to be used in an individual LOA in order to minimize potential impacts and disturbance to polar bears.

II. Data

OMB Control Number: 1018-0070.

Title: Incidental Take of Marine Mammals during Specified Oil and Gas Industry Activities, 50 CFR 18.27 and 50 CFR 18, Subparts I and J.

Service Form Number: None.

Type of Request: Extension of a previously approved collection.

Description of Respondents: Oil and gas industry companies.

Respondent's Obligation: Required to obtain or retain a benefit (incidental take regulations and/or a Letter of Authorization (LOA)).

Frequency of Collection: On occasion.

Estimated Number of Respondents: 25.

Activity | Number of responses | Completion time per response (hours) | Total annual burden hours
Application for procedural regulations | 2 | 150 | 300
LOA requests | 25 | 24 | 600
Onsite monitoring and observation reports | 300 | 1.5 | 450
Final monitoring report | 25 | 10 | 250
Polar bear den detection survey and report | 4 | 50 | 200
Totals | 356 |  | 1,800

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 6, 2017.
Tina A. Campbell,
Chief, Division of Policy, Performance, and Management Programs, U.S. Fish and Wildlife Service.

[FR Doc. 2017-00462 Filed 1-10-17; 8:45 am]

BILLING CODE 4333-15-P